DEPARTMENT OF THE INTERIOR

Minerals Management Service

Agency Information Collection Activities: Submitted for Office of Management and Budget Review, Comment Request

AGENCY: Minerals Management Service (MMS), Interior.

ACTION: Notice of information collection.

SUMMARY: Under the Paperwork Reduction Act of 1995, we are soliciting comments on an information collection titled Office of Indian Royalty Assistance Customer Satisfaction Survey, OMB 1010-0098, which expires on November 30, 2000. We are preparing an information collection request, which we will submit to the Office of Management and Budget (OMB), for a 3-year extension of this information collection.

DATES: Written comments should be received on or before June 19, 2000.

ADDRESSES: The mailing address for written comments regarding this information collection is David S. Guzy, Chief, Rules and Publications Staff, Minerals Management Service, Royalty Management Program, P.O. Box 25165, MS 3021, Denver, Colorado 80225. Courier address is Building 85, Room A-613, Denver Federal Center, Denver, Colorado 80225. The Internet address is RMP.comments@mms.gov.

Public Comment Procedure If you wish to comment, you may submit your comments by any one of several methods and to the mailing addresses stated in the ADDRESSES section of this Notice. Please submit Internet comments as an ASCII file avoiding the use of special characters and any form of encryption. Please also include Attn: Office of Indian Royalty Assistance Customer Satisfaction Survey, OMB Control Number 1010-0098, and your name and return address in your Internet message. If you do not receive a confirmation from the system that we have received your Internet message, contact David S. Guzy directly (303) 231-3432.

We will post public comments after the comment period closes on the Internet at http://www.rmp.mms.gov. You may arrange to view paper copies of the comments by contacting David S. Guzy, Chief, Rules and Publications Staff, telephone (303) 231-3432, FAX (303) 231-3385. Our practice is to make comments, including names and addresses of respondents, available for public review on the Internet and during regular business hours at our offices in Lakewood, Colorado. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Dennis C. Jones, Rules and Publications Staff, phone (303) 231-3046, FAX (303) 231-3385, email Dennis.C.Jones@mms.gov. A copy of the information collection is available to you without charge upon request.

Title: Office of Indian Royalty Assistance Customer Satisfaction Survey, OMB Control Number 1010-0098.

Abstract: Section 3506(c)(2)(A) of the Paperwork Reduction Act requires each agency “to provide notice * * * and otherwise consult with members of the public and affected agencies concerning each proposed collection of information * * *” Agencies must specifically solicit comments to: (a) evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The Department of the Interior (DOI) is responsible for matters relevant to mineral resource development on Federal and Indian Lands and the Outer Continental Shelf (OCS). The Secretary of the Interior (Secretary) is responsible for managing the production of minerals from Federal and Indian Lands and the OCS; for collecting royalties from lessees who produce minerals; and for distributing the funds collected in accordance with applicable laws. The Secretary also has an Indian trust responsibility to manage Indian lands and seek advice and information from Indian beneficiaries. MMS performs the royalty management functions and assists the Secretary in carrying out his Indian trust responsibility.

Executive Order 12862 requires Federal agencies to develop and implement customer service standards. As part of these standards, the Office of Indian Royalty Assistance (OIRA) pledges to “work continuously to streamline and improve our services.” When individual Indian mineral owners request assistance from OIRA offices, we include a postage-paid Customer Satisfaction Survey card when responding to the owner's request. This survey card asks Indian mineral owners several questions regarding the quality of service that our offices are providing to them.

The information collected from these Customer Satisfaction Survey cards helps us determine the effectiveness of our office and guides us in developing and implementing new procedures to improve our service.

We receive approximately 300 completed survey cards annually. Based on this response rate and the 2 minutes required to complete the survey card, we estimate the annual reporting and recordkeeping “hour” burden is 10 hours; there is no “non-hour” burden.

Frequency: On occasion.

Estimated Number and Description of Respondents: 300 individual Indian mineral owners.

Estimated Annual Reporting and Recordkeeping “Hour” Burden: 10 hours.

Estimated Annual Reporting and Recordkeeping “Non-Hour” Burden: 0 hours.

Dated: April 12, 2000.
R. Dale Fazio,
Acting Associate Director for Royalty Management.

[FR Doc. 00-9803 Filed 4-18-00; 8:45 am]

BILLING CODE 4310-MR-P